DEPARTMENT OF HEALTH AND HUMAN SERVICES

National Institutes of Health

Center for Scientific Review; Amended Notice of Meeting

Notice is hereby given of a change in the meeting of the Transmission of Vector-Borne and Zoonotic Diseases Study Section (TVZ), June 12, 2023, 10:00 a.m. to June 13, 2023, 08:00 p.m., National Institutes of Health, Rockledge II, 6701 Rockledge Drive, Bethesda, MD 20892 which was published in the Federal Register on May 15, 2023, 88 FR 30998 Doc 2023-10263.

This notice is being amended to change the meeting start time from 9:30 a.m. to 8:00 p.m. to 10:00 a.m. to 8:00 p.m. The meeting is closed to the public.

Dated: June 7, 2023.
David W. Freeman,
Supervisory Program Analyst, Office of Federal Advisory Committee Policy.

[FR Doc. 2023-12606 Filed 6-12-23; 8:45 am]

BILLING CODE 4140-01-P